NUCLEAR REGULATORY COMMISSION

Request for a License To Import Radioactive Waste

Pursuant to 10 CFR 110.70(C) “Public notice of receipt of an application,” please take notice that the Nuclear Regulatory Commission has received the following request for an import license. Copies of the request are available electronically through ADAMS and can be accessed through the Public Electronic Reading Room (PERR) link http://www.nrc.gov/NRC/ADAMS/index.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

The information concerning this import license application follows.

NRC Import License Application
Name of applicant, date of application, date received, Application No., Docket No. | Description of material: Material type | Description of material: Total quantity | End use | Country of origin
Duratek Services, Inc., April 10, 2006, April 13, 2006, IW017, 11005621 | Class A radioactive waste in the form of radioactively contaminated materials including metals, dry activity material (such as wood, paper, and plastic) and liquids (such as aqueous and organic based fluids) | Up to 6,000 tons of materials contaminated with various radionuclides in varying combinations. Total quantity or activity level of each range from a total of .07 TBq uranium (other than U-233, U-235 or U-238) to a total of 37 TBq Iron-55 (Fe-55), with a combined total activity level for all radionuclides not to exceed 108 TBq | For recycle and beneficial reuse to the greatest possible extent, which may or may not require decontamination. Some materials to be incinerated and/or used in Duratek operations | Canada.

Dated this 22nd day of May 2006 at Rockville, Maryland.
For the Nuclear Regulatory Commission.
Margaret M. Doane,
Deputy Director, Office of International Programs.

[FR Doc. E6-8354 Filed 5-30-06; 8:45 am]

BILLING CODE 7590-01-P